SECURITIES AND EXCHANGE COMMISSION

File No. 500-1, Southridge Enterprises, Inc.; Order of Suspension of Trading

December 28, 2012.

It appears to the Securities and Exchange Commission that there is a lack of current and accurate information concerning the securities of Southridge Enterprises, Inc. (“Southridge”) because of questions regarding the accuracy of statements made by Southridge in press releases to investors concerning, among other things, the company's business operations and arrangements, including certain claims regarding a joint partnership and an arrangement to obtain funding and to change the listing venue for Southridge stock. Southridge is a Nevada corporation purportedly based in Dallas, Texas, and its stock is currently traded over the counter and quoted on OTC Link under the symbol SRGE.

The Commission is of the opinion that the public interest and the protection of investors require a suspension of trading in the securities of Southridge.

Therefore, it is ordered, pursuant to Section 12(k) of the Securities Exchange Act of 1934, that trading in the above-listed company is suspended for the period from 9:30 a.m. EST, on December 28, 2012 through 11:59 p.m. EST, on January 11, 2013.

By the Commission.
Elizabeth M. Murphy,
Secretary.

[FR Doc. 2012-31595 Filed 12-28-12; 4:15 pm]

BILLING CODE 8011-01-P